NATIONAL TRANSPORTATION SAFETY BOARD

Sunshine Act Meeting

TIME AND DATE: Tuesday, July 31, 2012, 9:30 a.m.

PLACE: NTSB Conference Center, 429 L'Enfant Plaza SW., Washington, DC 20594.

STATUS: The ONE item is open to the public.

MATTERS TO BE CONSIDERED:

8333A Highway Accident Report—Motorcoach Roadway Departure and Overturn on Interstate 95 near Doswell, Virginia, May 31, 2011

The press and public may enter the NTSB Conference Center one hour prior to the meeting for set up and seating.

Individuals requesting specific accommodations should contact Rochelle Hall at (202) 314-6305 by Friday, July 24, 2012.

The public may view the meeting via a live or archived webcast by accessing a link under “News & Events” on the NTSB home page at www.ntsb.gov.

Schedule updates including weather-related cancellations are also available at www.ntsb.gov.

FOR MORE INFORMATION CONTACT: Candi Bing, (202) 314-6403 or by email at bingc@ntsb.gov.

NEWS MEDIA CONTACT: Nicholas Worrell (202) 314-6608 or by email at nicholas.worrell@ntsb.gov.

Dated: Friday, July 13, 2012.
Candi R. Bing,
Federal Register Liaison Officer.

[FR Doc. 2012-17528 Filed 7-13-12; 4:15 pm]

BILLING CODE 7533-01-P